DEPARTMENT OF EDUCATION

Notice of Proposed Information Collection Requests

AGENCY: Department of Education.

SUMMARY: The IC Clearance Official, Regulatory Information Management Services, Office of Management, invites comments on the proposed information collection requests as required by the Paperwork Reduction Act of 1995.

DATES: Interested persons are invited to submit comments on or before November 24, 2008.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: September 19, 2008.
Angela C. Arrington,
IC Clearance Official, Regulatory Information Management Services, Office of Management.

Institute of Education Sciences

Type of Review: Revision.

Title: Integrated Postsecondary Education Data System (IPEDS), Web-Based Collection System.

Frequency: Annually.

Affected Public: Not-for-profit institutions (primary); Businesses or other for-profit State, Local, or Tribal Gov't, SEAs or LEAs.

Reporting and Recordkeeping Hour Burden:

Responses: 58,090.

Burden Hours: 173,802.

Abstract: The National Center for Education Statistics (NCES) is requesting an amendment to its three-year clearance for the Integrated Postsecondary Education Data System (IPEDS) to run for the 2008-09, 2009-10, and 2010-2011 web-based data collections. Current authorization for IPEDS expires July 31, 2011 (OMB No. 1850-0582). The Higher Education Opportunity Act (HEOA), which became law on August 14, 2008, after OMB had already granted IPEDS a three-year clearance, has several implications for the IPEDS annual Web-based data collection. The law requires the immediate implementation of several new institutional reporting requirements so that the data may be made available on the College Navigator Web site by August 2009. A change memo was sent to OMB on August 19, 2008, that included a small number of non-substantive changes to the 2008-09 data collection based on the new requirements; OMB provided clearance for those changes in a notice on August 26, 2008. NCES now requests in this document a limited number of additional substantive changes to spring cycle of the 2008-09 IPEDS Web-based data collection, which opens on March 4, 2009, in order to implement HEOA requirements. These changes are to: (1) Make previously approved changes to financial aid reporting required, rather than optional, in spring 2009; (2) collect additional financial aid data; (3) collect data on students with disabilities; and (4) collect additional graduation rate data.

Requests for copies of the proposed information collection request may be accessed from http://edicsweb.ed.gov, by selecting the “Browse Pending Collections” link and by clicking on link number 3823. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E8-22480 Filed 9-23-08; 8:45 am]

BILLING CODE 4000-01-P